NATIONAL NANOTECHNOLOGY COORDINATION OFFICE

Nanoscale Science, Engineering and Technology Subcommittee, National Science and Technology Council, Committee on Technology; Human and Environmental Exposure Assessment Workshop: Public Meeting

ACTION: Notice of public meeting.

SUMMARY: The National Nanotechnology Coordination Office (NNCO), on behalf of the Nanoscale Science, Engineering, and Technology (NSET) Subcommittee of the Committee on Technology, National Science and Technology Council (NSTC), will hold a workshop on February 24-25, 2009 to provide an open forum to discuss the state-of-the-art of the science related to environmental, health, and safety aspects of engineered nanoscale materials in the area of human and environmental exposure assessment. Human and Environmental Exposure Assessment is one of the five environmental, health, and safety research categories identified in the NSET Subcommittee document Strategy for Nanotechnology-Related Environmental, Health, and Safety Research (http://www.nano.gov/NNI_EHS_Research_Strategy.pdf), which was released February 14, 2008.

DATES: The public meeting will be held on Tuesday, February 24, 2009 from 8 a.m. until 5:30 p.m. and on Wednesday, February 25, 2009 from 8 a.m. to 12:30 p.m.

ADDRESSES: The public meeting will be at the Consumer Protection Safety Commission conference facility, 4330 East West Highway, Bethesda, MD 20814 (Metro stop: Bethesda on the Red Line). For directions, please see http://www.cpsc.gov/about/direct.html.

Registration: Due to space limitations and security requirements, pre-registration for the workshop is required. People interested in attending the workshop should register online at http://www.nano.gov/html/meetings/exposure/registration.html. Written notices of participation by e-mail should be sent to exposure@nnco.nano.gov. Written notices may be mailed to the Exposure Assessment Workshop, c/o NNCO, 4201 Wilson Blvd., Stafford II, Suite 405, Arlington, VA 22230. Registration is on a first-come, first-serve basis. Registration will close on February 21, 2009 at 5 p.m. EST.

Information about the meeting, including the agenda, is posted at http://www.nano.gov.

FOR FURTHER INFORMATION, CONTACT: For information regarding this Notice, please contact Liesl Heeter, National Nanotechnology Coordination Office. Telephone: (703) 292-4533. E-mail: exposure@nnco.nano.gov.

SUPPLEMENTARY INFORMATION: Human and environmental exposure assessment research is used to guide efforts to improve environmental, health, and safety (EHS) protection with regard to nanoscale engineered materials and to monitor trends and progress. The purpose of this workshop is to hold an open forum to discuss the progress achieved in the area of human and environmental exposure assessment research and to discuss the path forward for addressing the research needs in this area. Specifically, the Nanotechnology Environmental Health Implications (NEHI) Working Group of the NSET Subcommittee has identified five priority research needs within the human and environmental exposure category: Characterizing exposure among workers; identifying population groups and environments exposed to engineered nanoscale materials; characterizing exposure to the general population from industrial processes and industrial and consumer products containing nanomaterials; characterizing the health of exposed populations and environments; and understanding workplace processes and factors that determine exposure to nanomaterials.

The presentations, discussions, and comments provided at this meeting will inform the NEHI Working Group's continuing adaptive management of the National Nanotechnology Initiative's environmental, health, and safety research strategy.

The NSET Subcommittee coordinates planning, budgeting, and program implementation and review to ensure a balanced and comprehensive National Nanotechnology Initiative (NNI). The NSET Subcommittee is composed of representatives from Federal agencies participating in the NNI. In order to perform work in the area of environmental, health, and safety, NSET created a working group, the Nanotechnology Environmental Implications (NEHI) Working Group. The NNCO provides technical and administrative support to the NSET Subcommittee and serves as a central point of contact for the NNI.

For more information on the National Nanotechnology Initiative and its various working entities, please visit http://www.nano.gov.

M. David Hodge,
Operations Manager, OSTP.

[FR Doc. E9-664 Filed 1-14-09; 8:45 am]

BILLING CODE 3170-W9-P